DEPARTMENT OF COMMERCE

National Oceanic and Atmospheric Administration

50 CFR Part 300

[I.D. 110904H]

Fraser River Sockeye Salmon Fisheries; Inseason Orders

AGENCY: National Marine Fisheries Service (NMFS), National Oceanic and Atmospheric Administration (NOAA), Commerce.

ACTION: Inseason orders.

SUMMARY: NMFS publishes the Fraser River salmon inseason orders regulating salmon fisheries in U.S. waters. The orders were issued by the Fraser River Panel (Panel) of the Pacific Salmon Commission (Commission) and subsequently approved and issued by NMFS during the 2004 salmon fisheries within the U.S. Fraser River Panel Area. These orders established fishing times and areas for the gear types of U.S. treaty Indian and all-citizen fisheries during the period the Panel exercised jurisdiction over these fisheries.

DATES: Each of the following inseason actions was effective upon announcement on telephone hotline numbers as specified at 50 CFR 300.97(b)(1); those dates and times are listed herein. Comments will be accepted through December 2, 2004.

ADDRESSES: Comments may be mailed to D. Robert Lohn, Regional Administrator, Northwest Region, NMFS, 7600 Sand Point Way N.E., BIN C15700-Bldg. 1, Seattle, WA 98115-0070. Information relevant to this document is available for public review during business hours at the office of the Regional Administrator, Northwest Region, NMFS.

Comments can also be submitted via e-mail at the Fraser2004salmon@noaa.gov, or through the internet at the Federal eRulemaking Portal: http://www.regulations.gov. Follow the instructions for submitting comments and include the I.D. number in the subject line of the message. Information relevant to this document is available for public review during business hours at the Office of the Regional Administrator, Northwest Region, NMFS.

FOR FURTHER INFORMATION CONTACT: David Cantillon, (206) 526-4140.

SUPPLEMENTARY INFORMATION: The Treaty between the Government of the United States of America and the Government of Canada concerning Pacific Salmon was signed at Ottawa on January 28, 1985, and subsequently was given effect in the United States by the Pacific Salmon Treaty Act (Act) at 16 U.S.C. 3631-3644.

Under authority of the Act, Federal regulations at 50 CFR part 300, subpart F provide a framework for implementation of certain regulations of the Commission and inseason orders of the Commission's Fraser Panel for U.S. sockeye and pink salmon fisheries in the Fraser River Panel Area.

The regulations close the U.S. portion of the Fraser River Panel Area to U.S. sockeye and pink salmon fishing unless opened by Panel orders which are given effect by inseason regulations published by NMFS. During the fishing season, NMFS may issue regulations that establish fishing times and areas consistent with the Commission agreements and inseason orders of the Panel. Such orders must be consistent with domestic legal obligations. The Regional Administrator, Northwest Region, NMFS, issues the inseason orders. Official notification of these inseason actions of NMFS is provided by two telephone hotline numbers described at 50 CFR 300.97(b)(1). Inseason orders must be published in the Federal Register as soon as practicable after they are issued. Due to the frequency with which inseason orders are issued, publication of individual orders is impractical. Therefore, the 2004 orders are being published in this single document to avoid fragmentation.

The following inseason orders were adopted by the Panel and issued for U.S. fisheries by NMFS during the 2004 fishing season. The times listed are local times, and the areas designated are Puget Sound Management and Catch Reporting Areas as defined in the Washington State Administrative Code at Chapter 220-22:

Order No. 2004-01: Issued 1 p.m., July 16, 2004.

Treaty Indian Fisheries

Areas 4B, 5, and 6C: Open period for drift gill nets from 12 p.m. (noon), Sunday, July 18, 2004, to 12 p.m. (noon), Wednesday, July 21, 2004.

Order No. 2004-02: Issued 1 p.m., July 20, 2004.

Treaty Indian Fisheries

Areas 4B, 5, and 6C: Open period for drift gill nets from 12 p.m. (noon), Wednesday, July 21, 2004, to 12 p.m. (noon), Saturday, July 24, 2004.

Order No. 2004-03: Issued 2:00 p.m., July 23, 2004.

Treaty Indian Fisheries

Areas 4B, 5, and 6C: Open for drift gillnets from 12 p.m. (noon) Saturday, July 24, 2004, to 12 p.m. (noon), Wednesday, July 28, 2004.

Areas 6, 7, and 7A: Open to net fishing from 4 a.m., Monday, July 26, 2004, to 8 a.m., Wednesday, July 28, 2004.

All Citizen Fisheries

Areas 7 and 7A Gillnet: Open to fishing from 8 a.m. until 11:59 p.m. (midnight), both July 28 and July 29, 2004.

Areas 7 and 7A Purse Seine: Open to fishing from 5 a.m. until 9 p.m., both July 28 and July 29, 2004.

Areas 7 and 7A Reef Net: Open to fishing from 5 a.m. until 9 p.m., both July 28 and July 29, 2004.

Order No. 2004-04: Issued 5 p.m., July 27, 2004.

Treaty Indian Fisheries

Areas 4B, 5, and 6C: Open for drift gillnets from 12 p.m. (noon) Wednesday, July 28, 2004, to 12 p.m. (noon), Saturday, July 31, 2004.

Areas 6, 7, and 7A: Open to net fishing from 4 a.m., Thursday, July 29, 2004, to 8 a.m., Saturday, July 31, 2004.

All Citizen Fisheries

Areas 7 and 7A Gillnet: Open to fishing from 8 a.m. until 11:59 p.m. (midnight), July 30, 2004.

Areas 7 and 7A Purse Seine: Open to fishing from 5 a.m. until 9 p.m., July 30, 2004.

Areas 7 and 7A Reef Net: Open to fishing from 5 a.m. until 9 p.m., both July 30 and August 1, 2004.

Order No. 2004-05: Issued 5 p.m., July 30, 2004.

Treaty Indian Fisheries

Areas 4B, 5, and 6C: Open for drift gillnets from 12 p.m. (noon) Saturday, July 31, 2004, to 12 p.m. (noon), Saturday, August 7, 2004.

Areas 6, 7, and 7A: Open to net fishing from 4 a.m., Sunday, August 1, 2004, to 11:59 p.m., Friday, August 6, 2004.

All Citizen Fisheries

Areas 7 and 7A Gillnet: Open to fishing from 8 a.m. until 11:59 p.m. on the following dates: August 3 through August 6, 2004.

Areas 7 and 7A Purse Seine: Open to fishing from 5 a.m. until 9 p.m. on the following dates: August 3 through August 6, 2004.

Areas 7 and 7A Reef Net: Open to fishing from 5 a.m. until 9 p.m. on the following dates: July 31, and August 3 through August 6, 2004.

Order No. 2004-06: Issued 3 p.m., August 6, 2004.

Treaty Indian Fisheries

Areas 4B, 5, and 6C: Open for drift gillnets from 12 p.m. (noon) Saturday, August 7, 2004, to 12 p.m. (noon), Saturday, August 14, 2004.

Areas 6, 7, and 7A: Open to net fishing from 12:01 a.m., Saturday, August 7, 2004 to 11:59 p.m., Friday, August 13, 2004.

All Citizen Fisheries

Areas 7 and 7A Gillnet: Open to fishing from 8 a.m. until 11:59 p.m. on the following dates: August 10 through August 13, 2004.

Areas 7 and 7A Purse Seine: Open to fishing from 5 a.m. until 9 p.m. on the following dates: August 10 through August 13, 2004.

Areas 7 and 7A Reef Net: Open to fishing from 5 a.m. until 9 p.m. on the following dates: August 10 through August 13, 2004.

Order No. 2004-07: Issued 2 p.m., August 13, 2004.

Treaty Indian Fisheries

Areas 4B, 5, and 6C: Open for drift gillnets from 12 p.m. (noon) Saturday, August 14, 2004, to 11:59 p.m., Saturday, August 14, 2004.

Areas 6, 7, and 7A: Open to net fishing from 12:01 a.m., Saturday, August 14, 2004, to 11:59 p.m., Saturday, August 14, 2004.

The Assistant Administrator for Fisheries NOAA (AA), finds that good cause exists for the inseason orders to be issued without affording the public prior notice and opportunity for comment under 5 U.S.C. 553(b)(B) as such prior notice and opportunity for comments is impracticable and contrary to the public interest. Prior notice and opportunity for public comment is impracticable because NMFS has insufficient time to allow for prior notice and opportunity for public comment between the time the stock abundance information is available to determine how much fishing can be allowed and the time the fishery must open and close in order to harvest the appropriate amount of fish while they are available.

Moreover, such prior notice and opportunity for public comment is impracticable because not closing the fishery upon attainment of the quota would allow the quota to be exceeded and thus compromise the conservation objectives established preseason, and it does not allow fishers appropriately controlled access to the available fish at the time they are available.

The AA also finds good cause to waive the 30-day delay in the effective date, required under 5 U.S.C. 553(d)(3), of the inseason orders. A delay in the effective date of the inseason orders would not allow fishers appropriately controlled access to the available fish at that time they are available.

This action is authorized by 50 CFR 300.97, and is exempt from review under Executive Order 12866.

Authority: 16 U.S.C. 3636(b).

Dated: November 10, 2004.
Alan D. Risenhoover,
Acting Director, Office of Sustainable Fisheries, National Marine Fisheries Service.

[FR Doc. 04-25524 Filed 11-16-04; 8:45 am]

BILLING CODE 3510-22-S